FEDERAL COMMUNICATIONS COMMISSION

47 CFR Parts 54, 61, and 69

[CC Docket Nos. 96-262; 94-1; 99-249; 96-45; FCC 00-193]

Access Charge Reform, Price Cap Performance Review for Local Exchange Carriers, Low-Volume Long-Distance Users, and Federal-State Joint Board on Universal Service; Correction

AGENCY: Federal Communications Commission.

ACTION: Final rule; correction.

SUMMARY: On June 21, 2000 (65 FR 38684), we published final rules which adopted an integrated interstate access reform and universal service proposal put forth by the members of the Coalition for Affordable Local and Long Distance Service (CALLS). This document contains corrections to those rules and includes a revision to § 69.3, which was inadvertently omitted.

DATES: Effective on June 21, 2000.

FOR FURTHER INFORMATION CONTACT: Jennifer McKee, Common Carrier Bureau, Competitive Pricing Division, (202) 418-1520.

SUPPLEMENTARY INFORMATION: The Federal Communications Commission published a document amending parts 54, 61 and 69 of the Commission's rules in the Federal Register on June 21, 2000, (65 FR 38684). This document corrects the Federal Register as it appeared. In rule FR Doc. 00-15170, published on June 21, 2000, (65 FR 38684), the Commission is correcting §§ 54.701(g)(1)(i); 54.702(i); 54.705(c)(1), (c)(1)(i), (c)(1)(ii), (c)(1)(iv), and (c)(1)(v); 54.715(c); Subpart J table of contents; 54.800(i), (j), (o), (q); 54.801(a), (b), (c), and (d); 54.802 heading, (a), (b), (b)(1)(i), (b)(2), (d)(2), (d)(3), and (d)(4); 54.803(b) and (b)(2); 54.804; 54.805(a), and (a)(2); 54.806 heading, (a), (b), (c)(1), (e), (f), (i), (i)(1), (i)(2), (j), and (j)(2); 54.807(a), (b), and (c); 54.808; 54.809(c); Part 61 authority; 61.3(d)(1), (d)(3), (d)(4), (e), (m), (w), (aa), (bb), (cc), and (zz); 61.41(c)(3); 61.45(b)(1)(i), (b)(1)(ii), (b)(1)(iii)(A), (b)(2), (c), (d), (d)(2), (i)(1)(i), (i)(1)(ii)(B), (i)(3), and (i)(4)(ii); 61.46(a), and (d); 61.47(i)(5); 61.48(i)(2), (l), (m), and (o)(1); 69.3(h); 69.4(d)(1); 69.152(d)(1)(i), (e)(1), (e)(1)(ii)(B), (h), (h)(1), (h)(2), (k)(1)(i), (k)(1)(ii)(A), (k)(1)(ii)(B), Note to (k)(1), (q), (q)(1), (q)(2), (q)(5), (q)(6), (q)(7), and (q)(8); 69.153(a); 69.157; and 69.158 of the Commission's rules.

PART 54—[CORRECTED]

§ 54.701 [Corrected]

1. On page 38689, in the third column, in § 54.701 paragraph (g)(1)(i), the first line, correct “the Schools and Libraries Division,” to read “The Schools and Libraries Division,”.

§ 54.702 [Corrected]

2. On page 38690, in the first column, in § 54.702 paragraph (i), the last line, correct “high cost” to read “high-cost”.

§ 54.705 [Corrected]

3. On page 38690, in the first column, in § 54.705 paragraph (c)(1), the third and fourth lines, correct “high-cost and low-income support” to read “high cost and low income support”.

4. On the same page, in the second column, in § 54.705 paragraph (c), wherever it appears, correct “high-cost, low-income,” to read “high cost, low income,”.

§ 54.715 [Corrected]

5. On page 38690, in the second column, in § 54.715 paragraph (c), the fourteenth and fifteenth lines, correct “high-cost support mechanism, the low-income support mechanism,” to read “high cost support mechanism, the low income support mechanism,”.

Subpart J—[Corrected]

6. On page 38690, in the third column, in the table of contents, wherever it appears, correct “LECs” to read “local exchange carriers”.

7. On the same page, in the same column, in the table of contents, correct the heading for § 54.804 to read “54.804 Preliminary minimum access universal service support for a study area calculated by the Administrator.”

§ 54.800 [Corrected]

8. On page 38690, in the third column, in § 54.800, correct paragraphs (i) and (j) to read:

* * * * *

(i) Price Cap Local Exchange Carrier is defined in § 61.3(aa) of this chapter.

(j) Preliminary Minimum Access Universal Service Support for a Study Area is the amount calculated pursuant to § 54.804.

* * * * *

9. On page 38691, in the first column, in § 54.800 paragraph (o), the third line, correct “LEC” to read “local exchange carrier”.

10. On the same page, in the same column, in § 54.800, correct paragraph (q) to read:

* * * * *

(q) Zone Average Revenue per Line. The amount calculated as follows:

Zone Average Revenue per Line = (25% * (Loop + Port)) + U (Uniform revenue per line adjustment)

Where:

Loop = the price for unbundled loops in a UNE zone.

Port = the price for switch ports in that UNE zone.

U = [(Average Price Cap CMT Revenue per Line month in a study area * price cap local exchange carrier Base Period Lines)—(25% * Σ (price cap local exchange carrier Base Period Lines in a UNE Zone * ((Loop + Port) for all zones)))] ÷ price cap local exchange carrier Base Period Lines in a study area.

§ 54.801 [Corrected]

11. On page 38691, in the first and second columns, in § 54.801, wherever it appears, correct “LECs” to read “local exchange carriers”.

12. On the same page, in the same columns, in § 54.801, wherever it appears, correct “LEC” to read “local exchange carrier”.

13. On the same page, in the second column, in § 54.801 paragraph (d), the thirteenth and fourteenth lines, correct “average CMT Revenue per Line per Month” to read “Average CMT Revenue per Line month”.

§ 54.802 [Corrected]

14. On page 38691, in the second column, in § 54.802, correct the heading to read “§ 54.802 Obligations of local exchange carriers and the Administrator.”

15. On the same page, in the second and third columns, in § 54.802, wherever it appears, correct “LEC” to read “local exchange carrier”.

16. On the same page, in the second column, in § 54.802 paragraph (a), wherever it appears, correct “residence” to read “residential.”

17. On the same page, in the same column, in § 54.802 paragraph (a), the thirty-third line, correct “LEC's” to read “local exchange carrier's”.

18. On the same page, in the third column, in § 54.802 paragraph (b)(1)(i), the second line, correct “Per Line Month” to read “per Line month”.

19. On the same page, in the same column, in § 54.802 paragraph (d)(3), the third line, correct by removing the word “and”.

20. On the same page, in the same column, in § 54.802 paragraph (d)(4), the third line, remove the “semi-colon” after “and” at the end of the paragraph.

§ 54.803 [Corrected]

21. On page 38692, in the first column, in § 54.803, wherever it appears, correct “LEC” to read “local exchange carrier”.

22. On the same page, in the same column, in § 54.803 paragraph (b), the fifth line, correct “LEC's” to read “local exchange carrier's”.

23. On page 38692, in the first column, correct § 54.804 to read:

§ 54.804 Preliminary minimum access universal service support for a study area calculated by the Administrator.

(a) If Average Price Cap CMT Revenue per Line month is greater than $9.20 then: Preliminary Minimum Access Universal Service Support (for a study area) = Average Price Cap CMT Revenue per Line month in a study area * price cap local exchange carrier Base Period Lines * 12)−(($7.00 * price cap local exchange carrier Base Period Residential and Single-Line Business Lines * 12) + ($9.20 * price cap local exchange carrier Base Period Multi-line Business Lines * 12)).

(b) If Average Price Cap CMT Revenue per Line month in a study area is greater than $7.00 but less than $9.20 then: Preliminary Minimum Access Universal Service Support (for a study area) = (Average Price Cap CMT Revenue per Line month in a study area—$7.00) * (price cap local exchange carrier Base Period Residential and Single-Line Business Lines * 12).

(c) If Average Price Cap CMT Revenue per Line month in a study area is less than $7.00 then the Preliminary Minimum Access Universal Service Support (for a study area) is zero.

§ 54.805 [Corrected]

24. On page 38692, in the first column, in § 54.805 paragraph (a), the fourth line, correct “LEC” to read “local exchange carrier”.

25. On the same page, in the second column, in § 54.805 paragraph (a)(2), the seventh line, correct “Multi-Line Business Lines Zone Above” to read “Multi-Line Business Lines. Zone Above”.

§ 54.806 [Corrected]

26. On page 38692, in the second column, in § 54.806, correct the heading to read “§ 54.806 Calculation by the Administrator of interstate access universal service support for areas served by price cap local exchange carriers.”

27. On the same page, in the same column, in § 54.806, wherever it appears, correct “LECs” to read “local exchange carriers”.

28. On the same page, in the same column, in § 54.806 paragraph (b), the last line, at the end of the sentence, remove the comma and add a period.

29. On the same page, in the same column, in § 54.806 paragraph (c)(1), the eleventh line, correct “x” to read “*”.

30. On the same page, in the same column, in § 54.806 paragraph (c)(1), the thirteenth line, correct “Revenues).” to read “Revenues)).”.

31. On the same page, in the third column, in § 54.806 paragraph (e), the third line, correct “are” to read “area”.

32. On the same page, in the same column, in § 54.806, correct paragraph (f) to read:

* * * * *

(f) Calculate the Minimum Adjustment Amount. (1) If the TNMD is greater than $75 million, then the Minimum Adjustment Amount (MAA) equals the MAA Phase In Percentage times the MD by study area times the ratio of $75 million to TNMD.

(2) If the TNMD is less than $75 million, then the MAA equals the product of the MAA Phase In Percentage and the MD by study area.

33. On the same page, in the same column, in § 54.806, wherever it appears, correct “LEC” to read “local exchange carrier”.

34. On the same page, in the same column, in § 54.806 paragraph (i)(2), the eighth and ninth lines, correct “Preliminary Study Area Universal Service Support x” to read “PSAUSS *”.

35. On page 38693, in the first column, in § 54.806 paragraph (j)(2), the eighth and ninth lines, correct “Preliminary Study Area Universal Service Support x” to read “PSAUSS *”.

§ 54.807 [Corrected]

36. On page 38693, in the first column, in § 54.807 paragraph (a), the first line, correct “Telecommunication” to read “Telecommunications”.

37. On the same page, in the same column, in § 54.807 paragraph (a), the fourth line, correct “LEC” to read “local exchange carrier”.

38. On the same page, in the same column, in § 54.807, wherever it appears, correct all other occurrences of “LEC” to read “price cap local exchange carrier”.

39. On the same page, in the same column, in § 54.807 paragraph (b), the last line, correct “www.fcc.gov.” to read “www.fcc.gov/ccb/stats.”.

§ 54.808 [Corrected]

40. On page 38693, in the third column, in § 54.808, the third line, correct “LEC” to read “local exchange carrier”.

§ 54.809 [Corrected]

41. On page 38693, in the third column, in § 54.809 paragraph (c), the third line, correct “carriers” to read “carrier”.

PART 61—[CORRECTED]

42. On page 38693, in the third column, in part 61, correct the authority to read:

Authority: Secs. 1, 4(i), 4(j), 201-205 and 403 of the Communications Act of 1934, as amended; 47 U.S.C. 151, 154(i), 154(j), 201-205 and 403, unless otherwise noted.

§ 61.3 [Corrected]

43. On page 38694, in the first column, in § 61.3 paragraph (d)(1), the fifth line, correct “LECs” to read “local exchange carriers”.

44. On the same page, in the same column, in § 61.3 paragraph (d)(1), wherever it appears, correct “Per Line” to read “per Line”.

45. On the same page, in the same column, in § 61.3 paragraph (d)(1), the twenty-third line, correct “Per Line Month” to read “per Line month”.

46. On the same page, in the same column, in § 61.3 paragraph (d)(1), the twenty-third through the twenty-seventh lines, correct font from italics to roman.

47. On the same page, in the same column, in § 61.3 paragraph (d)(3), the second line, correct “Per Line” to read “per Line”.

48. On the same page, in the same column, in § 61.3 paragraph (d)(4), the second line correct “Per Line” to read “per Line”.

49. On the same page, in the first and second columns, in § 61.3, correct paragraph (e) to read:

* * * * *

(e) Average Traffic Sensitive Charge.

(1) The Average Traffic Sensitive Charge (ATS charge) is the sum of the following two components:

(i) The Local Switching (LS) component. The LS component will be calculated by dividing the proposed LS revenues (End Office Switch, LS trunk ports, Information Surcharge, and signalling transfer point (STP) port) by the base period LS minutes of use (MOUs); and

(ii) The Transport component. The Transport component will be calculated by dividing the proposed Transport revenues (Switched Direct Trunk Transport, Signalling for Switched Direct Trunk Transport, Entrance Facilities for Switched Access traffic, Tandem Switched Transport, Signalling for Tandem Switching and residual per minute Transport Interconnection Charge (TIC) pursuant to § 69.155 of this chapter) by price cap local exchange carrier only base period MOUs (including meet-point billing arrangements for jointly-provided interstate access by a price cap local exchange carrier and any other local exchange carrier).

(2) For the purposes of determining whether the ATS charge has reached the Target Rate as set forth in § 61.3(qq), the calculations should include all the relevant revenues and minutes for services provided under generally available price cap tariffs.

* * * * *

50. On the same page, in the second column, in § 61.3, correct paragraph (m) to read:

* * * * *

(m) Concurring carrier. A carrier (other than a connecting carrier) subject to the Act which concurs in and assents to schedules of rates and regulations filed on its behalf by an issuing carrier or carriers.

51. On the same page, in the third column, in § 61.3 paragraph (w), the second line, correct “LECs” to read “local exchange carriers”.

52. On the same page, in the same column, in § 61.3, correct paragraphs (aa) and (bb) to read:

* * * * *

(aa) Price Cap Local Exchange Carrier. A local exchange carrier subject to regulation pursuant to §§ 61.41 through 61.49.

(bb) Pooled Local Switching Revenue. For certain qualified companies as set forth in § 61.48(m), is the amount of additional Local Switching reductions in the July 2000 Annual filing allowed to be moved and recovered in the CMT basket.

* * * * *

53. On the same page, in the same column, in § 61.3 paragraph (cc), the twelfth line, correct “LEC” to read “local exchange carrier”.

54. On page 38695, in the second column, in § 61.3, correct paragraph (zz) to read:

* * * * *

(zz) Zone Average Revenue per Line. The amount calculated as follows:

Zone Average Revenue per Line = (25% * (Loop + Port)) + U (Uniform revenue per line adjustment)

Where:

Loop = the price for unbundled loops in a UNE zone.

Port = the price for switch ports in that UNE zone.

U = [(Average Price Cap CMT Revenue per Line month in a study area * price cap local exchange carrier Base Period Lines)—(25% * Σ (price cap local exchange carrier Base Period Lines in a UNE Zone * ((Loop + Port) for all zones)))] ÷ price cap local exchange carrier Base Period Lines in a study area.

* * * * *

§ 61.41 [Corrected]

55. On page 38695, in the third column, in § 61.41 paragraph (c)(3), wherever it appears, correct by replacing the single quotation marks around “ ‘average schedule’ ” with double quotation marks.

§ 61.45 [Corrected]

56. On page 38696, in the second column, in § 61.45 paragraph (b)(1)(i), the first and second lines, correct “PCIt-1=PCIt-1[1+w[GDP—PI—X] + Z/R]” to read “PCIt=PCIt-1[1+w[GDP—PI—X] + Z/R]”.

57. On the same page, in the same column, in § 61.45 paragraph (b)(1)(i), at the term “Targeted Reductions”, wherever it appears, correct “(GDP—PI—X)” to read “(GDP-PI—X)”.

58. On the same page, in the same column, in § 61.45 paragraph (b)(1)(i), at the term “wix”, the second line, correct “x” to read “*”.

59. On the same page, in the same column, in § 61.45(b)(1)(ii), the sixth line, correct “an LEC” to read “a price cap local exchange carrier”.

60. On the same page, in the third column, in § 61.45 paragraph (b)(1)(iii)(A), the tenth line, correct “PICs charges” to read “PICCs”.

61. On page 38697, in the first column, in § 61.45 paragraph (b)(2), the first and second lines, correct “local exchange carrier” to read “price cap local exchange carrier”.

62. On the same page, in the same column, in § 61.45 paragraph (b)(2), the fourteenth line, correct “w(GDP—PI—X)” to read “w(GDP-PI—X)”.

63. On the same page, in the same column, in § 61.45 paragraph (c), the seventh line, correct “Per Line” to read “per Line”.

64. On the same page, in the same column, in § 61.45 paragraph (d), the third line, correct “paragraphs” to read “paragraph”.

65. On the same page, in the second column, in § 61.45 paragraph (d)(2), the first line, correct “Local exchange carrier” to read “Local exchange carriers”.

66. On the same page, in the same column, in § 61.45 paragraph (i)(1)(i), the twelfth line, correct “(GDPPI—X)” to read “(GDP-PI—X)”.

67. On the same page, in the third column, in § 61.45 paragraph (i)(1)(i), the third and fourth lines, correct “reduced average price cap CMT Revenue per line” to read “reduce Average Price Cap CMT Revenue per Line month”.

68. On the same page, in the same column, in § 61.45 paragraph (i)(1)(ii)(B), the first line, correct “(GDP—PI—X” to read “(GDP-PI—X)”.

69. On the same page, in the same column, in § 61.45 paragraph (i)(3), the first line, correct “LEC” to read “local exchange carrier”.

70. On the same page, in the same column, in § 61.45 paragraph (i)(3), the third line, correct by removing the word “level”.

71. On page 38698, in the first column, in § 61.45, correct paragraph (i)(4)(ii) to read:

* * * * *

(ii) Filing entity identifies maximum amount of dollars available to reduce Average Price Cap CMT Revenue per Line month by the following:

(CMT revenue in a $0.0095 Area—CCL revenue in a $0.0095 Area) * (GDP-PI—X) + (CCL Revenue in a $0.0095 Area) * [(GDP-PI—X)—(g/2)]/[1+(g/2)]

* * * * *

§ 61.46 [Corrected]

72. On page 38698, in the first and second columns, in § 61.46, correct paragraph (a) to read:

* * * * *

(a) Except as provided in paragraphs (d) and (e) of this section, in connection with any price cap tariff filing proposing rate changes, the carrier must calculate an API for each affected basket pursuant to the following methodology:

APIt = APIt-1[Σi vi (Pt/Pt-1)i]

Where:

APIt = the proposed API value,

APIt-1 = the existing API value,

Pt = the proposed price for rate element “i,”

Pt-1 = the existing price for rate element “i,” and

vi = the current estimated revenue weight for rate element “i,” calculated as the ratio of the base period demand for the rate element “i” priced at the existing rate, to the base period demand for the entire basket of services priced at existing rates.

* * * * *

73. On the same page, in the second column, in § 61.46 paragraph (d), the twenty-second line, correct “USF” to read “Universal Service”.

§ 61.47 [Corrected]

74. On page 38699, in the first column, in § 61.47 paragraph (i)(5), the seventh line, correct by adding a “§” before “61.3(qq)”.

75. On the same page, in the same column, in § 61.47 paragraph (i)(5), the eighth line, correct “Traffic Sensitive or Trunking” to read “traffic sensitive or trunking”.

§ 61.48 [Corrected]

76. On page 38699, in the second column, in § 61.48 paragraph (i)(2), the third line, correct “local exchange carrier” to read “Local exchange carriers”.

77. On the same page, in the second column, in § 61.48, correct paragraph (l) to read:

* * * * *

(l) Average Traffic Sensitive Revenues. (1) In the July 1, 2000 annual filing, price cap local exchange carriers will make an additional reduction to rates comprising ATS charge, and to associated SBI upper limits and PCIs. This reduction will be calculated to be the amount that would be necessary to achieve a total $2.1 billion reduction in carrier common line and ATS rates by all price cap local exchange carriers, compared with those rates as they existed on June 30, 2000 using 2000 annual filing base period demand.

(i) The net change in revenue associated with Carrier Common Line Rate elements resulting from:

(A) The removal from access of price cap local exchange carrier contributions to the Federal universal service mechanisms;

(B) Price cap local exchange carrier receipts of interstate access universal service support pursuant to subpart J of part 54;

(C) Changes in End User Common Line Charges and PICC rates;

(D) Changes in Carrier Common Line charges due to GDP-PI—X targeting for $0.0095 filing entities.

(ii) Reductions in Average Traffic Sensitive charges resulting from:

(A) Targeting of the application of the (GDP-PI—X) portion of the formula in § 61.45(b), and any applicable “g” adjustments;

(B) The removal from access of price cap local exchange carrier contributions to the Federal universal service mechanisms;

(C) Additional ATS charge reductions defined in paragraph (2) of this section.

(2) Once the reductions in paragraph (l)(1)(i) and paragraphs (l)(1)(ii)(A) and (l)(1)(ii)(B) of this section are identified, the difference between those reductions and $2.1 billion is the total amount of additional reductions that would be made to ATS rates of price cap local exchange carriers. This amount will then be restated as the percentage of total price cap local exchange carrier Local Switching revenues as of June 30, 2000 using 2000 annual filing base period demand (“June 30 Local Switching revenues”) necessary to yield the total amount of additional reductions and taking into account the fact that, if participating, a price cap local exchange carrier would not reduce ATS rates below its Target Rate as set forth in § 61.3(qq). Each price cap local exchange carrier then reduces ATS rate elements, and associated SBI upper limits and PCIs, by a dollar amount equivalent to the percentage times the June 30 Local Switching revenues for that filing entity, provided that no price cap local exchange carrier shall be required to reduce its ATS rates below its Target Rate as set forth in § 61.3(qq). Each carrier can take its additional reductions against any of the ATS rate elements, provided that at least a proportional share must be taken against Local Switching rates.

* * * * *

78. Beginning on the same page, in the third column, in § 61.48, correct paragraph (m) to read:

* * * * *

(m) Pooled Local Switching Revenues. (1) Price cap local exchange carriers are permitted to pool local switching revenues in their CMT basket under one of the following conditions.

(i) Any price cap local exchange carrier that would otherwise have July 1, 2000 price cap reductions as a percentage of Base Period Price Cap Revenues at the holding company level greater than the industry wide total July 1, 2000 price cap revenue reduction as a percentage of Base Period Price Cap Revenues may elect temporarily to pool the amount of the additional reductions above 25% of the Local Switching element revenues necessary to yield that carrier's proportionate share of a total $2.1 billion reduction in switched access usage rates on July 1, 2000. The basis of the reduction calculation will be R at PCIt-1 for the upcoming tariff year. The percentage reductions per line amounts will be calculated as follows: (Total Price Cap Revenue Reduction ÷ Base Period Price Cap Revenues)

Pooled local switching revenue for each filing entity within a holding company that qualifies under this paragraph (i) will continue until such pooled revenues are eliminated under this paragraph. Notwithstanding the provisions of § 61.45(b)(1), once the Average Traffic Sensitive (ATS) rate reaches the applicable Target Rate as set forth in § 61.3(qq), the Targeted Revenue Differential as defined in § 61.45(i) shall be targeted to reducing pooled local switching revenue until the pooled local switching revenue is eliminated. Thereafter, the X-factor for these baskets will be determined in accordance with § 61.45(b)(1).

(ii) Price cap local exchange carriers other than the Bell companies and GTE with at least 20% of total holding company lines operated by companies that as of December 31, 1999 were certified to the Commission as rural carriers, may elect to pool up to the following amounts:

(A) For a price cap holding company's predominantly non-rural filing entities (i.e., filing entities within which more than 50% of all lines are operated by telephone companies other than those that as of December 31, 1999 were certified to the Commission as rural telephone companies), the amount of the additional reductions to Average Traffic Sensitive Charge rates as defined in paragraph (l)(2) of this section, to the extent such reductions exceed 25% of the Local Switching element revenues (measured in terms of June 30, 2000 rates times 1999 base period demand);

(B) For a price cap holding company's predominantly rural filing entities (i.e., filing entities with greater than 50% of lines operated by telephone companies that as of December 31, 1999 were certified to the Commission as rural telephone companies), the amount of the additional reductions to Average Traffic Sensitive Charge rates as defined in paragraph (l)(2) of this section.

(2) Allocation of Pooled Local Switching Revenue to Certain CMT Elements

(i) The pooled local switching revenue for each filing entity is shifted to the CMT basket within price caps. Pooled local switching revenue will not be included in calculations to determine the eligibility for interstate access universal service funding.

(ii) Pooled local switching revenue will be capped on a revenue per line basis.

(iii) Pooled local switching revenue is included in the total revenue for the CMT basket in calculating the X-factor reduction targeted to the traffic sensitive rate elements, and for companies qualified under paragraph (m)(1)(i) of this section, to pooled elements after the Average Traffic Sensitive Charge reaches the target level. For the purpose of targeting X-factor reductions, companies that allocate pooled local switching revenue to other filing entities pursuant to paragraph (m)(2)(vii) of this section shall include pooled local switching revenue in the total revenue of the CMT basket of the filing entity from which the pooled local switching revenue originated.

(iv) Pooled local switching revenue shall be kept separate from CMT revenue in the CMT basket. CMT rate elements for each filing entity shall first be set based on CMT revenue per line without regard to the presence of pooled local switching revenue for each filing entity.

(v) If the rates generated without regard to the presence of pooled local switching revenue for multi-line business PICC and/or multi-line business SLC are below the nominal caps of $4.31 and $9.20, respectively, pooled amounts can be added to these rate elements to the extent permitted by the nominal caps.

(vi) Notwithstanding the provisions of § 69.152(k) of this chapter, pooled local switching revenue is first added to the multi-line business SLC until the rate equals the nominal cap ($9.20) or the pooled local switching revenue is fully allocated. If pooled local switching revenue remains after applying amounts to the multi-line business SLC, notwithstanding the provisions of § 69.153 of this chapter, the remaining pooled local switching revenue may be added to the multi-line business PICC until the rate equals the nominal cap ($4.31) or the pooled local switching revenue is fully allocated. Unallocated pooled local switching revenue may still remain. For companies pooling pursuant to paragraph (m)(1)(i) of this section, these unallocated amounts may not be recovered from the CCL charge, the primary residential and single-line business SLC, a non-primary residential SLC, or from CMT elements in any other filing entity.

(vii) For companies pooling pursuant to paragraph (m)(1)(ii) of this section, pooled local switching revenue that can not be allocated to the multi-line business PICC and multi-line business SLC rates within an individual filing entity may not be recovered from the CCL charge, primary residential and single-line business SLC or residential/single-line business SLC charges, but may be allocated to other filing entities within the holding company, and collected by adding these amounts to the multi-line business PICC and multi-line business SLC rates. The allocation of pooled local switching revenue among filing entities will be re-calculated at each annual filing. In subsequent annual filings, pooled local switching revenue that was allocated to another filing entity will be reallocated to the filing entity from where it originated, to the full extent permitted by the nominal caps of $9.20 and $4.31.

(viii) Notwithstanding the provisions of § 69.152(k) of this chapter, these unallocated local switching revenues that cannot be recovered fully pursuant to paragraph (m)(2)(vii) of this section are first added to the multi-line business SLC of other filing entities until the resulting rate equals the nominal cap ($9.20) or the pooled local switching revenue for the holding company is fully allocated. If the pooled local switching revenue can be fully allocated to the multi-line business SLC, the amount is distributed to each filing entity with a rate below the nominal cap ($9.20) based on its below-cap multi-line business SLC revenue as a percentage of the total holding company's below-cap multi-line business SLC revenue.

(ix) If pooled local switching revenue remains after applying amounts to the multi-line business SLC of all filing entities in the holding company, pooled local switching revenue may be added to the multi-line business PICC of other filing entities. Notwithstanding the provisions of § 69.153 of this chapter, the remaining pooled local switching revenue is distributed to each filing entity with a rate below the nominal cap ($4.31) based on its below-cap multi-line business PICC revenue as a percentage of the total holding company's below-cap multi-line business PICC revenue.

(x) If pooled local switching revenue is added to the multi-line business SLC but not to the multi-line business PICC for a filing entity that qualified to deaverage SLCs without regard to pooled local switching revenue, the resulting SLC rates can still be deaveraged. Total pooled local switching revenue is added to the deaveraged zone 1 multi-line business SLC rate until the per line rate in zone 1 equals the rate in zone 2 or until the pooled local switching revenue is fully allocated to the deaveraged multi-line business SLC rate for zone 1. If pooled local switching revenue remains after the rate in zone 1 equals zone 2, the deaveraged rates of zone 1 and zone 2 are increased until the pooled local switching revenue is fully allocated to the deaveraged multi-line business SLC rates of zone 1 and 2 or until those rates reach the zone 3 multi-line business SLC rate level. This process continues until pooled local switching revenue is fully allocated to the zone deaveraged rates.

* * * * *

79. On page 38701, in the second column, in § 61.48 paragraph (o)(1), the first line, remove the word “of”.

80. On the same page, in the same column, in § 61.48 paragraph (o)(1), wherever it appears, correct “LEC” to read “local exchange carrier”.

81. On the same page, in the same column, in § 61.48 paragraph (o)(1), the twenty-third line, correct “price-cap” to read “price cap”.

PART 69—[CORRECTED]

§ 69.3 [Corrected]

82. On page 38701, in the third column, Part 69, add an amendatory instruction 18a. § 69.3 and (h) to read:

18a. Revise § 69.3(h) to read as follows:

§ 69.3 Filing of access service tariffs.

* * * * *

(h) Local exchange carriers subject to price cap regulation as that term is defined in § 61.3(ee) of this chapter, shall file with this Commission a price cap tariff for access service for an annual period. Such tariffs shall be filed to meet the notice requirements of § 61.58 of this chapter, with a scheduled effective date of July 1. Such tariff filings shall be limited to changes in the Price Cap Indexes, rate level changes (with corresponding adjustments to the affected Actual Price Indexes and Service Band Indexes), and the incorporation of new services into the affected indexes as required by § 61.49 of this chapter.

* * * * *

§ 69.4 [Corrected]

83. On page 38701, in the third column, in § 69.4 paragraph (d)(1), the second line, correct “LECs” to read “local exchange carriers”.

§ 69.152 [Corrected]

84. On page 38702, in the first column, in § 69.152, correct paragraph (d)(1)(i) to read:

* * * * *

(i) The Average Price Cap CMT Revenue per Line month as defined in § 61.3(d) of this chapter; or

* * * * *

85. On the same page, in the same column, in § 69.152 paragraph (e)(1), the fourth line, correct “the monthly charge” to read “the maximum monthly charge”.

86. On the same page, in the same column, in § 69.152, correct paragraph (e)(1)(ii)(B) to read:

* * * * *

(B) The Average Price Cap CMT Revenue per Line month as defined in § 61.3(d) of this chapter.

* * * * *

87. On the same page, in the second column, in § 69.152, wherever it appears, correct “LEC” to read “local exchange carrier”.

88. On the same page, in the same column, in § 69.152 paragraph (h)(2), the fourth line, correct “LEC's” to read “local exchange carrier's”.

89. On the same page, in the same column, in § 69.152 paragraph (k)(1)(i), the first line, remove the comma and add a semi-colon.

90. On the same page, in the same column, in § 69.152 paragraph (k)(1)(ii)(A), the fourth line, remove the comma and add a semi-colon.

91-92. On the same page, in the same column, in § 69.152 paragraph (k)(1)(ii)(B), the first line, correct “Average Price Cap CMT Per Line” to read “The Average Price Cap CMT Revenue per Line month”.

93. On the same page, in the third column, in § 69.152 paragraph (q), the third line, correct “LEC's” to read “local exchange carriers”.

94. On the same page, in the same column, in § 69.152 paragraph (q)(1), the first line, correct “for price cap” to read “for a price cap”.

95. On the same page, in the same column, in § 69.152, wherever it appears, correct “LEC” to read “local exchange carrier”.

96. On the same page, in the same column, in § 69.152 paragraph (q)(2), the twelfth line, correct “USF” to read “Universal Service”.

97. On page 38703, in the first column, in § 69.152 paragraph (q)(5), wherever it appears, correct “USF” to read “Universal Service”.

98. On the same page, in the same column, in § 69.152 paragraph (q)(5), wherever it appears, correct “Per Line” to read “per Line month”.

99. On the same page, in the same column, in § 69.152 paragraph (q)(6), the seventh and eighth lines, correct “Price Cap CMT Revenue Per Line” to read “Average Price Cap CMT Revenue per Line month”.

100. On the same page, in the same column, in § 69.152 paragraph (q)(7), the second line, correct “LEC” to read “local exchange carrier”.

101. On the same page, in the same column, in § 69.152 paragraph (q)(7), wherever it appears, correct “EUCL” to read “End User Common Line charge”.

102. On the same page, in the same column, in § 69.152 paragraph (q)(7), the thirteenth line, correct “USF” to read “Universal Service”.

103. On the same page, in the second column, in § 69.152 paragraph (q)(8), the third line, correct “LEC” to read “local exchange carrier”.

104. On the same page, in the same column, in § 69.152 paragraph (q)(8), the sixth line, correct “USF” to read “Universal Service”.

§ 69.153 [Corrected]

105. On page 38703, in the second column, in § 69.153 paragraph (a), the sixth line, correct “Per Line” to read “per Line month”.

106. On the same page, in the same column, in § 69.153 paragraph (a), the eleventh line, correct “USF” to read “Universal Service”.

§ 69.157 [Corrected]

107. On page 38704, in the first column, in § 69.157, the fifth line, correct “carrier” to read “carriers”.

§ 69.158 [Corrected]

108. On page 38704, in the second and third columns, in § 69.158, wherever it appears, correct “LEC” to read “local exchange carrier”.

109. On the same page, in the third column, in § 69.158, the twentieth line, correct “USF” to read “Universal Service”.

Federal Communications Commission.
Magalie Roman Salas,
Secretary.

[FR Doc. 00-24540 Filed 9-25-00; 8:45 am]

BILLING CODE 6712-01-P